DEPARTMENT OF THE INTERIOR

Bureau of Land Management

[AZ-420-06-1640-BH-AZZG; 8364]

Modification of Closure of Selected Public Lands in Pima County, AZ

AGENCY: Bureau of Land Management, Interior.

ACTION: Notice.

SUMMARY: This order restricts all public use on a year-round basis on approximately 289 acres of public lands in the Saginaw Hill area administered by the Bureau of Land Management (BLM), Tucson Field Office, Arizona. Existing management designations established in the Phoenix Resource Management Plan and Final Environmental Impact Statement, dated September 1989, remain unchanged. This order modifies the restriction order published in the Federal Register, Vol. 70, No. 68, Monday, April 11, 2005, page 18420. This order is issued under the authority of 43 CFR 8364.1 and affects the following public lands:

Gila and Salt River Meridian, Arizona

T. 15 S., R. 12 E.,

Sec. 11, N½NE¼, SE¼NE¼, N½SW¼NE¼, SE¼SW¼NE¼, portion of SE¼ north of the pipeline right-of-way;

Sec. 12, NW¼NW¼, SW¼NW¼, portion of W½SE¼NW¼.

The area described contains approximately 289 acres.

DATES: Effective Dates: The use restriction is effective immediately on date of this publication in the Federal Register, and shall remain in effect until rescinded or modified by the Authorized Officer. Due to necessity, fencing and signage in the area has been put in place prior to this publication.

SUPPLEMENTARY INFORMATION: Current regulations and management designations allow public use of BLM-administered lands in the Saginaw Hill area. The affected lands contain substances that may compromise public health and safety, such as waste piles containing high levels of arsenic and lead that result from historic mining operations, and are naturally occurring. The public uses the affected area for a variety of recreational activities, exposing these visitors to hazardous substances that may potentially have harmful effects. The restriction prohibiting public entry and use within the affected areas will help mitigate public health and safety threats. This order expands the area restricted under the April 11, 2005, notice. Expansion of the restricted area is necessary to secure several sites more recently identified that contain high levels of arsenic and lead, and provide a safety zone while testing and remediation of the area takes place. The Saginaw Hill area described herein will be subject to the following use restrictions:

1. Unless otherwise authorized, no person shall enter or remain in the restricted area.

2. Persons who are exempt from the restriction include:

(a) Any Federal, State, or local officers engaged in fire, emergency or law enforcement activities;

(b) BLM employees engaged in official duties; and

(c) Persons specifically authorized by the BLM to enter the restricted area.

The area affected by this order will be posted with appropriate regulatory signs and/or physical barriers. Additional information is available in the Tucson Field Office at the address given below.

Penalties: On all public lands, under section 303(a) of the Federal Land Policy and Management Act of 1976, 43 U.S.C. 1733(a), 43 CFR 8360.0-7 and 43 CFR 9212.4, any person who violates any of these supplementary rules, closures or restrictions on public lands within the boundaries established in the rules may be tried before a United States Magistrate and fined no more than $1,000.00 or imprisoned for no more than 12 months, or both. Such violations may also be subject to the enhanced fines provided for by 18 U.S.C. 3571 (not to exceed $100,000 and/or imprisonment not to exceed 12 months).

FOR FURTHER INFORMATION CONTACT: Field Office Manager at the Tucson Field Office, 12661 East Broadway Boulevard, Tucson, Arizona 85748-7208; telephone (520) 258-7200.

Dated: July 10, 2006.
Patrick Madigan,
Field Office Manager.

[FR Doc. E6-12609 Filed 8-3-06; 8:45 am]

BILLING CODE 4310-32-P